DEPARTMENT OF ENERGY

Federal Energy Regulatory Commission

Combined Notice of Filings #1

Take notice that the Commission received the following electric rate filings:

Docket Numbers: ER11-4628-004.

Applicants: PJM Interconnection, L.L.C.

Description: Compliance filing per 9/20/2012 Order in ER11-4628 (version effective 5/15/2012) to be effective 5/15/2012.

Filed Date: 10/22/12.

Accession Number: 20121022-5108.

Comments Due: 5 p.m. ET 11/13/12.

Docket Numbers: ER11-4628-005.

Applicants: PJM Interconnection, L.L.C.

Description: Compliance filing per 9/20/2012 Order in ER11-4628 (version effective 6/30/2012) to be effective 6/30/2012.

Filed Date: 10/22/12.

Accession Number: 20121022-5112.

Comments Due: 5 p.m. ET 11/13/12.

Docket Numbers: ER11-4628-006.

Applicants: PJM Interconnection, L.L.C.

Description: Compliance filing per 9/20/2012 Order in ER11-4628 (version effective 12/17/2012) to be effective 12/17/2012.

Filed Date: 10/22/12.

Accession Number: 20121022-5115.

Comments Due: 5 p.m. ET 11/13/12.

Docket Numbers: ER12-1664-001.

Applicants: Midwest Independent Transmission System Operator, Inc.

Description: 10-22-12 Order 755 Compliance to be effective 12/17/2012.

Filed Date: 10/22/12.

Accession Number: 20121022-5138.

Comments Due: 5 p.m. ET 11/13/12.

Docket Numbers: ER13-56-001.

Applicants: Westar Energy, Inc.

Description: Amendment, Missouri Joint Municipal Electric Utility Commission to be effective 12/10/2012.

Filed Date: 10/23/12.

Accession Number: 20121023-5107.

Comments Due: 5 p.m. ET 11/13/12.

Docket Numbers: ER13-174-000.

Applicants: California Independent System Operator Corporation.

Description: 2012-10-23 CAISO Amendment to Counterparty Provisions in ISO Tariff to be effective 11/1/2012.

Filed Date: 10/23/12.

Accession Number: 20121023-5108.

Comments Due: 5 p.m. ET 11/13/12.

Docket Numbers: ER13-175-000.

Applicants: AEP Texas Central Company.

Description: TCC-Midway Farms Wind IA to be effective 9/24/2012.

Filed Date: 10/23/12.

Accession Number: 20121023-5111.

Comments Due: 5 p.m. ET 11/13/12.

Docket Numbers: ER13-176-000.

Applicants: AEP Texas Central Company.

Description: TCC-Sendero Wind Energy PDA to be effective 10/16/2012.

Filed Date: 10/23/12.

Accession Number: 20121023-5112.

Comments Due: 5 p.m. ET 11/13/12.

Docket Numbers: ER13-177-000.

Applicants: AEP Texas North Company.

Description: TNC-Higher Power Energy SUA Amend 2 to be effective 9/24/2012.

Filed Date: 10/23/12.

Accession Number: 20121023-5116.

Comments Due: 5 p.m. ET 11/13/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2012.
Nathaniel J. Davis, Sr.,
Deputy Secretary.

[FR Doc. 2012-26749 Filed 10-30-12; 8:45 am]

BILLING CODE 6717-01-P